OFFICE OF PERSONNEL MANAGEMENT

5 CFR Part 532

RIN 3206-AM37

Prevailing Rate Systems; Redefinition of the Northern Mississippi and Memphis, TN, Appropriated Fund Federal Wage System Wage Areas

AGENCY: U.S. Office of Personnel Management.

ACTION: Proposed rule with request for comments.

SUMMARY: The U.S. Office of Personnel Management is issuing a proposed rule that would redefine the geographic boundaries of the Northern Mississippi and Memphis, Tennessee, appropriated fund Federal Wage System (FWS) wage areas. The proposed rule would redefine Panola County, MS, from the Northern Mississippi wage area to the Memphis wage area. This change is based on a consensus recommendation of the Federal Prevailing Rate Advisory Committee (FPRAC) to best match the county proposed for redefinition to a nearby FWS survey area. FPRAC did not recommend other changes for the Northern Mississippi and Memphis FWS wage areas at this time.

DATES: We must receive comments on or before July 5, 2011.

ADDRESSES: Send or deliver comments to Jerome D. Mikowicz, Deputy Associate Director for Pay and Leave, Employee Services, U.S. Office of Personnel Management, Room 7H31, 1900 E Street, NW., Washington, DC 20415-8200; e-mail pay-leave-policy@opm.gov; or FAX: (202) 606-4264.

FOR FURTHER INFORMATION CONTACT: Madeline Gonzalez, (202) 606-2838; e-mail pay-leave-policy@opm.gov; or FAX: (202) 606-4264.

SUPPLEMENTARY INFORMATION: The U.S. Office of Personnel Management (OPM) is issuing a proposed rule to redefine the Northern Mississippi and Memphis, TN, appropriated fund Federal Wage System (FWS) wage areas. This proposed rule would redefine Panola County, MS, from the Northern Mississippi wage area to the Memphis wage area.

OPM considers the following regulatory criteria under 5 CFR 532.211 when defining FWS wage area boundaries:

(i) Distance, transportation facilities, and geographic features;

(ii) Commuting patterns; and

(iii) Similarities in overall population, employment, and the kinds and sizes of private industrial establishments.

Panola County is currently defined to the Northern Mississippi area of application in appendix C to subpart B of part 532. Based on our analysis of the regulatory criteria for defining appropriated fund FWS wage areas, we find that Panola County would now be more appropriately defined as part of the Memphis area of application. Distance and commuting patterns criteria for Panola County clearly favor the Memphis wage area. Transportation facilities and geographic features criteria favor the Memphis wage area because Interstate Highway 55 provides direct access from Panola County to the Memphis survey area while access to the major cities in the Northern Mississippi survey area (Columbus, Greenwood, and Tupelo) is mainly by secondary and multilane divided highways. Similarities in overall population, total private sector employment, and kinds and sizes of private industrial establishments favor the Northern Mississippi wage area. Based on this analysis, we recommend that Panola County be redefined to the Memphis wage area.

The Federal Prevailing Rate Advisory Committee (FPRAC), the national labor-management committee responsible for advising OPM on matters concerning the pay of FWS employees, recommended this change by consensus. This change would be effective on the first day of the first applicable pay period for FWS employees in Panola County beginning on or after 30 days following publication of final regulations. FPRAC did not recommend other changes in the geographic definitions of the Northern Mississippi and Memphis wage areas at this time.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
John Berry,
Director.

Accordingly, the U.S. Office of Personnel Management is proposing to amend 5 CFR part 532 as follows:

PART 532—PREVAILING RATE SYSTEMS

1. The authority citation for part 532 continues to read as follows:

Authority: 5 U.S.C. 5343, 5346; § 532.707 also issued under 5 U.S.C. 552.

Appendix C to Subpart B of Part 532—Appropriated Fund Wage and Survey Areas

2. Appendix C to subpart B is amended by revising the wage area listings for the Northern Mississippi and Memphis, TN, wage areas to read as follows:

* * * * *

MISSISSIPPI

* * * * *

Northern Mississippi

Survey Area

Mississippi:

Clay

Grenada

Lee

Leflore

Lowndes

Monroe

Oktibbeha

Area of Application. Survey area plus:

Mississippi:

Alcorn

Bolivar

Calhoun

Carroll

Chickasaw

Choctaw

Coahoma

Itawamba

Lafayette (Does not include the Holly Springs National Forest portion)

Montgomery

Noxubee

Pontotoc (Does not include the Holly Springs National Forest portion)

Prentiss

Quitman

Sunflower

Tallahatchie

Tishomingo

Union (Does not include the Holly Springs National Forest portion)

Washington

Webster

Winston

Yalobusha

* * * * *

TENNESSEE

* * * * *

Memphis

Survey Area

Arkansas:

Crittenden

Mississippi

Mississippi:

De Soto

Tennessee:

Shelby

Tipton

Area of Application. Survey area plus:

Arkansas:

Craighead

Cross

Lee

Poinsett

St. Francis

Mississippi:

Benton

Lafayette (Holly Springs National Forest portion only)

Marshall

Panola

Pontotoc (Holly Springs National Forest portion only)

Tate

Tippah

Tunica

Union (Holly Springs National Forest portion only)

Missouri:

Dunklin

Pemiscot

Tennessee:

Carroll

Chester

Crockett

Dyer

Fayette

Gibson

Hardeman

Hardin

Haywood

Lake

Lauderdale

Madison

McNairy

Obion

* * * * *

[FR Doc. 2011-13698 Filed 6-1-11; 8:45 am]

BILLING CODE 6325-39-P